DEPARTMENT OF ENERGY

Federal Energy Regulatory Commission

Combined Notice of Filings

Take notice that the Commission has received the following Natural Gas Pipeline Rate and Refund Report filings:

Filings Instituting Proceedings

Docket Numbers: RP16-1085-000.

Applicants: Northern Natural Gas Company.

Description: Files a Petition for a Limited Waiver of Northern Natural Gas Company under RP16-1085.

Filed Date: 7/7/16.

Accession Number: 20160707-5096.

Comments Due: 5 p.m. ET 8/8/16.

Docket Numbers: RP16-1103-000.

Applicants: Northern Natural Gas Company.

Description: § 4(d) Rate Filing: 20160623 Filing to Remove CS-1 Rate Schedule to be effective 8/25/2016.

Filed Date: 7/25/16.

Accession Number: 20160725-5117.

Comments Due: 5 p.m. ET 8/8/16.

Docket Numbers: RP16-1104-000.

Applicants: Midcontinent Express Pipeline LLC.

Description: § 4(d) Rate Filing: Filing to remove expiring Enerfin, Newfield and Tenaska agreements to be effective 8/1/2016.

Filed Date: 7/26/16.

Accession Number: 20160726-5068.

Comments Due: 5 p.m. ET 8/8/16.

Docket Numbers: RP16-1105-000.

Applicants: Northwest Pipeline LLC.

Description: § 4(d) Rate Filing: Small Customer Tariff Update to be effective 8/26/2016.

Filed Date: 7/26/16.

Accession Number: 20160726-5146.

Comments Due: 5 p.m. ET 8/8/16.

Docket Numbers: RP16-1106-000.

Applicants: Northwest Pipeline LLC.

Description: § 4(d) Rate Filing: LS-1 Rate Schedule Removal to be effective 8/26/2016.

Filed Date: 7/26/16.

Accession Number: 20160726-5147.

Comments Due: 5 p.m. ET 8/8/16.

Docket Numbers: RP16-1107-000.

Applicants: Northwest Pipeline LLC.

Description: § 4(d) Rate Filing: Measurment Adjustments/Corrections Filing to be effective 8/26/2016.

Filed Date: 7/26/16.

Accession Number: 20160726-5149.

Comments Due: 5 p.m. ET 8/8/16.

Docket Numbers: RP16-1108-000.

Applicants: Northwest Pipeline LLC.

Description: § 4(d) Rate Filing: Tariff Title Sheet Update to be effective 8/26/2016.

Filed Date: 7/26/16.

Accession Number: 20160726-5150.

Comments Due: 5 p.m. ET 8/8/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 27, 2016.
Nathaniel J. Davis, Sr.,
Deputy Secretary.

[FR Doc. 2016-18800 Filed 8-8-16; 8:45 am]

BILLING CODE 6717-01-P